NATIONAL COUNCIL ON DISABILITY

Youth Advisory Committee Meetings (Teleconferences)

Times and Dates: 12 p.m., EST March 21, 2003, and 12 p.m., EDT May 23, 2003.

Place: National Council on Disability, 1331 F Street, NW., Suite 850, Washington, DC.

Agency: National Council on Disability (NCD).

Status: All parts of this meeting will be open to the public. Those interested in participating in these meetings (teleconferences) should contact the appropriate staff member listed below. Due to limited resources, only a few telephone lines will be available for these conference calls.

Agenda: Roll call, announcements, reports, new business, adjournment.

FOR FURTHER INFORMATION CONTACT: Geraldine Drake Hawkins, Ph.D., Program Specialist, National Council on Disability, 1331 F Street NW., Suite 850, Washington, DC 20004; 202-272-2004 (voice), 202-272-2074 (TTY), 202-272-2022 (fax), ghawkins@ncd.gov (e-mail).

Youth Advisory Committee Mission: The purpose of NCD's Youth Advisory Committee is to provide input into NCD activities consistent with the values and goals of the Americans with Disabilities Act.

Dated: January 31, 2003.
Ethel D. Briggs,
Executive Director.

[FR Doc. 03-2795 Filed 2-4-03; 8:45 am]

BILLING CODE 6820-MA-P